Proclamation 7290 of April 10, 2000

National Crime Victims' Rights Week, 2000

By the President of the United States of America

A Proclamation

This week marks the 20th anniversary of National Crime Victims' Rights Week. Over the past two decades, we have made enormous progress in our efforts to build safer communities and to reshape our criminal justice system so that it better protects victims' rights and responds more compassionately to their needs.

In the 7 years since I first proclaimed National Crime Victims' Rights Week, my Administration has worked hard to achieve some of the most progressive criminal justice reforms in our Nation's history. Recognizing the urgent plea from millions of Americans to restore safety and security to their neighborhoods, in 1994 I signed into law the Violent Crime Control and Law Enforcement Act, which funds 100,000 additional police officers to fight crime and protect our citizens. In Federal court cases, this law also gives victims of violent crime and sexual abuse the right to speak out in court before sentencing, providing them the opportunity to describe the impact such victimization has had on their lives. To help protect our communities from gun violence, we enacted the Brady Handgun Violence Prevention Act, requiring background checks for potential handgun purchasers. Since its passage, more than 500,000 attempted gun purchases by felons, fugitives, and other prohibited persons have been prevented, saving an untold number of lives. And we worked to pass the assault weapons ban to keep these deadly firearms off our streets.

We also fought to pass the Violence Against Women Act, which addresses the complex dynamics of gender-motivated violence and seeks to ensure justice for women who live in daily fear for their safety and often for their lives. By providing support services for victims of domestic violence and sexual assault and empowering prosecutors with new tools to target offenders, we have sent a clear message that our society will not tolerate violence against women.

Thanks to the concerted efforts of crime victims' advocates, many of whom are survivors themselves, government at all levels is focused on ensuring victims' rights. Today, all States have enacted laws safeguarding crime victims' rights in the criminal justice process, and 32 States have amended their constitutions accordingly.

Despite this progress, millions of Americans still fall prey to criminals each year. In the past year alone, gun violence alone has taken an enormous toll across our Nation. To address this, my Administration has proposed the 21st Century Policing Initiative to provide 50,000 more police officers for our streets, requested more funding for our Safe Schools/Healthy Students Initiative to reduce school and youth violence, and put forth the largest national gun enforcement initiative in our Nation's history. I continue to call on the Congress to strengthen our Nation's hate crime laws and to pass commonsense gun legislation to keep guns out of the wrong hands; and we should pass the Victims' Rights Amendment to the Constitution.

Criminal victimization is at its lowest level in 25 years, but we can do more. As we observe National Crime Victims' Rights Week, as we near the fifth anniversary of the tragic bombing in Oklahoma City and the first anniversary of the shooting at Columbine High School, let us vow to continue working together to prevent crime and violence. Let us also pledge to honor the needs and rights of victims whose lives have been forever altered by crime. And let us recognize the courage and determination of the thousands of men and women across our country who dedicate themselves daily to the protection of victims' rights.

NOW, THEREFORE, I, WILLIAM J. CLINTON, President of the United States of America, by virtue of the authority vested in me by the Constitution and laws of the United States, do hereby proclaim April 9 to April 15, 2000, as National Crime Victims' Rights Week. I urge all Americans to remember crime victims and their families by working to reduce violence, to assist those harmed by crime, and to make our communities and homes safer places in which to live and raise our families.

IN WITNESS WHEREOF, I have hereunto set my hand this tenth day of April, in the year of our Lord two thousand, and of the Independence of the United States of America the two hundred and twenty-fourth.

wj

[FR Doc. 00-9332

Filed 4-12-00; 8:45 am]

Billing code 3195-01-P